DEPARTMENT OF DEFENSE

32 CFR Part 935

[Docket ID: USAF-2025-HQ-0002]

RIN 0701-AA98

Wake Island Code

AGENCY: Department of the Air Force, Department of Defense.

ACTION: Final rule; amendment.

SUMMARY: In accordance with the Executive Order titled “Defending Women from Gender Ideology Extremism and Restoring Biological Truth to the Federal Government,” this amendment rule removes text in this CFR part that promotes or otherwise inculcates gender ideology. This change is purely administrative.

DATES: This rule is effective July 24, 2025.

FOR FURTHER INFORMATION CONTACT: Mr. Thomas Zimmerman, 703-614-7820, SAF/GCN, 1740 Air Force Pentagon Ste. 5E773, Washington, DC 20330-1740.

SUPPLEMENTARY INFORMATION: In accordance with Executive Order 14168, “Defending Women from Gender Ideology Extremism and Restoring Biological Truth to the Federal Government,” dated January 20, 2025, the Department of the Air Force is amending this CFR part to remove text that promotes or otherwise inculcates gender ideology. Specifically, it replaces the word “gender” with the word “sex”, consistent with Executive Order 14168, in one sentence of Part 935.

It has been determined that publication of this CFR amendment for public comment is unnecessary because the amendment is an administrative change.

This rule is not significant under Executive Order 12866, “Regulatory Planning and Review.” This rule is not an E.O. 14192 regulatory action because this rule is not significant under E.O. 12866.

List of Subjects in 32 CFR Part 935

Courts, Law enforcement, Military law, Motor vehicles, Penalties, Safety, Wake Island.

Accordingly, 32 CFR part 935 is amended as follows:

PART 935—WAKE ISLAND CODE

1. The authority citation for part 935 continues to read as follows:

Authority: Sec. 48, Pub. L. 86-624, 74 Stat. 424; E.O. 11048, Sept. 1, 1962, 27 FR 8851, 3 CFR, 1959-1963 Comp., p. 632; agreement between the Department of Interior and Department of the Air Force, dated 19 June 1972, 37 FR 12255; and Secretary of the Air Force Order 111.1, dated 26 April 1999.

2. Amend § 935.3 by revising paragraph (d) to read as follows:

§ 935.3 Definitions.

* * * * *

(d) He or his includes both the male and female sexes, unless the context implies otherwise.

* * * * *

Dated: July 22, 2025.
Tommy W. Lee,
Acting Air Force Federal Register Liaison Officer.

[FR Doc. 2025-13994 Filed 7-23-25; 8:45 am]

BILLING CODE 3911-44-P